DEPARTMENT OF THE INTERIOR

National Park Service

[N6530; NPS-WASO-NAGPRA-NPS0041083; PPWOCRADN0-PCU00RP14.R50000]

Notice of Inventory Completion: U.S. Department of the Interior, Fish and Wildlife Service, Wheeler National Wildlife Refuge, Decatur, AL

AGENCY: National Park Service, Interior.

ACTION: Notice.

SUMMARY: In accordance with the Native American Graves Protection and Repatriation Act (NAGPRA), the U.S. Department of the Interior, Fish and Wildlife Service (USFWS), Wheeler National Wildlife Refuge (NWR), has completed an inventory of human remains and associated funerary objects and has determined that there is a cultural affiliation between the human remains and associated funerary objects and Indian Tribes or Native Hawaiian organizations in this notice.

DATES: Repatriation of the human remains and associated funerary objects in this notice may occur on or after October 16, 2025.

ADDRESSES: Send written requests for repatriation of the human remains and associated funerary objects in this notice to Haley Messer, U.S. Fish and Wildlife Service, Southeast Region, Archaeologist, 694 Beech Hill Lane, Hardeeville, SC 29927, email haley_messer@fws.gov.

SUPPLEMENTARY INFORMATION: This notice is published as part of the National Park Service's administrative responsibilities under NAGPRA. The determinations in this notice are the sole responsibility of the USFWS, and additional information on the determinations in this notice, including the results of consultation, can be found in its inventory or related records. The National Park Service is not responsible for the determinations in this notice.

Abstract of Information Available

Human remains representing, at least, three individuals have been identified. A total of 39 associated funerary objects have been identified.

The two individuals discovered in Limestone County, AL, (site 1LI47) were collected by the Limestone County Sheriff at an unknown date prior to 1999 from the Wheeler NWR. The individuals were deemed not modern based on age and condition. The first burial included remains of one adult with sex indeterminate. The second burial included remains of one adult male. A total of 18 associated funerary objects were collected from 1LI47, and consist of 15 unidentified sandstone fragments, two chert flakes, and one shell. The site dates to the Late Archaic Period. No additional provenience information was located.

The one individual discovered in Morgan Country, AL, (site 1MG2) was collected by a staff member from the Wheeler NWR on December 2, 1985. The burial included one adult (35-50 years old) male. The individual was deemed not modern based on age and condition. A total of 21 associated funerary objects were collected from 1MG2 and consist of 18 faunal fragments (including white-tailed deer, turtle, bird, and unidentified mammal), one sand-tempered sherd, one chert biface, and one chert flake. The site dates to Late Archaic/Gulf Formational, Middle and Late Woodland Periods. No additional provenience information was located.

Cultural Affiliation

Based on the information available and the results of consultation, cultural affiliation is clearly identified by the information available about the human remains and associated funerary objects described in this notice.

Determinations

The USFWS has determined that:

• The human remains described in this notice represent the physical remains of three individuals of Native American ancestry.

• The 39 objects described in this notice are reasonably believed to have been placed intentionally with or near individual human remains at the time of death or later as part of the death rite or ceremony.

• There is a connection between the human remains and associated funerary objects described in this notice and the Poarch Band of Creek Indians and The Chickasaw Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 16, 2025. If competing requests for repatriation are received, the USFWS must determine the most appropriate requestor prior to repatriation. Requests for joint repatriation of the human remains and associated funerary objects are considered a single request and not competing requests. The USFWS is responsible for sending a copy of this notice to the Indian Tribes and Native Hawaiian organizations identified in this notice and any other consulting parties.

(Authority: Native American Graves Protection and Repatriation Act, 25 U.S.C. 3003, and the implementing regulations, 43 CFR 10.10.)

Dated: September 4, 2025.
Melanie O'Brien,
Manager, National NAGPRA Program.

[FR Doc. 2025-17875 Filed 9-15-25; 8:45 am]

BILLING CODE 4312-52-P